DEPARTMENT OF AGRICULTURE

Rural Utilities Service

Distance Learning and Telemedicine Loan and Grant Program

AGENCY: Rural Utilities Service, USDA.

ACTION: Notice of application filing deadline.

SUMMARY: The Rural Utilities Service (RUS) announces its Distance Learning and Telemedicine Program application window for funding during fiscal year (FY) 2001. For FY 2001, $25 million in grants and $300 million in loans will be made available for distance learning and telemedicine projects serving rural America. The funding will be provided in three categories: (1) $15 million will be available for grants; (2) $200 million will be available for loans; and (3) $110 million will be available for combination grants and loans ($10 million in grants paired with $100 million in loans).

DATES: All applications for grants must be postmarked no later than Friday, March 2, 2001, to be eligible for FY 2001 grant funding. Applications for FY 2001 loans or combination loans and grants may be submitted at anytime up to September 30, 2001, and will be processed on a first-come, first-serve basis.

ADDRESSES: Applications are to be submitted to the Rural Utilities Service, U.S. Department of Agriculture, 1400 Independence Avenue, SW, STOP 1550, Room 2845, Washington, DC 20250-1550. Applications should be marked “Attention: Director, Advanced Services Division, Telecommunications Program.”

FOR FURTHER INFORMATION CONTACT: Orren E. Cameron, Director, Advanced Services Division, Telecommunications Program, Rural Utilities Service, STOP 1550, 1400 Independence Avenue, SW., Washington, DC 20250-1590, Telephone (202) 690-4493, Facsimile (202) 720-1051.

SUPPLEMENTARY INFORMATION: For FY 2001, $15 million in grants, a combination of $10 million in grants paired with $100 million in loans, and $200 million in loans will be made available for distance learning and telemedicine projects.

RUS encourages early submission of grant applications to determine whether all required items specified in 1703.125 are clearly in form, identifiable, and complete. RUS will examine, provide comment, and return applications that include items that would disqualify them from further consideration for modification if they are submitted by Friday, February 2, 2001. All applications for grants must be postmarked no later than Friday, March 2, 2001, to be eligible for FY 2001 grant funding. Each application will be reviewed for completeness in accordance with 7 CFR part 1703, subparts D, E, F, and G. Ineligible applications will be returned within 15 working days of receipt.

Notice is hereby given that under 7 CFR 1703.124, 1703.133, and 1703.143, RUS has determined the maximum amount of an application for a grant that will be considered for funding in FY 2001 as $500,000. The maximum amount for a loan, generally, that will be considered for funding in FY 2001 is $10 million. However, RUS may fund a project greater than $10 million subject to the project's feasibility and the availability of loan funds.

Applications for financial assistance must be submitted in accordance with 7 CFR part 1703, subparts D, E, F, and G, which establish the policies and procedures for submitting an application for financial assistance. These subparts and an application guide to assist in the preparation of applications are available on the Internet at the following address: “http://www.usda.gov/rus/telecom/dlt/dltpublications.htm”. Application guides may also be requested from RUS by contacting one of the following Area Offices: Eastern Area, USDA—RUS, Phone: (202) 690-4673; Northwest Area, USDA—RUS, Phone: (202) 720-1025; Southwest Area, USD-RUS, Phone: (202) 720-0800.

Christopher A. McLean,
Administrator, Rural Utilities Service.

[FR Doc. 00-28388 Filed 11-3-00; 8:45 am]

BILLING CODE 3410-15-P